DEPARTMENT OF THE INTERIOR

National Park Service

[NPS-WASO-NRNHL-DTS#-40810; PPWOCRADI0, PCU00RP14.R50000]

National Register of Historic Places; Notification of Pending Nominations and Related Actions

AGENCY: National Park Service, Interior.

ACTION: Notice.

SUMMARY: The National Park Service is soliciting electronic comments on the significance of properties nominated before July 26, 2025, for listing or related actions in the National Register of Historic Places.

DATES: Comments should be submitted electronically by September 23, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before July 26, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name(if applicable), Address/Boundary, City, Vicinity, Reference Number.

ILLINOIS

Union County

Rendleman Orchards, 9680 State Route 127, Alto Pass, SG100012200

NEW MEXICO

Bernalillo County

University Heights, Bounded by Harvard Drive, Carlisle Boulevard and Silver and Garfield Avenues, Albuquerque, SG100012198

OHIO

Montgomery County

Underwood-Talmage Company, 620 Geyer Street, Dayton, SG100012208

OKLAHOMA

Oklahoma County

Baptist Building, 1141 N Robinson Ave., Oklahoma City, SG100012199

SOUTH DAKOTA

Lincoln County

Wendt, Dr. Cyrus L. and Edna J., House, 604 N Broadway St., Canton, SG100012207

TEXAS

Dallas County

Boedeker Ice Cream Company, 1201 South Ervay Street, Dallas, SG100012196

WEST VIRGINIA

Jefferson County

Jacob Folk House, 484 Billmyer Mill Road, Shepherdstown, SG100012203

Kanawha County

Carter G. Woodson School, 1011 Pennsylvania Avenue, St. Albans, SG100012201

Marshall County

West Virginia-Pennsylvania Sinclair Cornerstone, 10 off County Road, Georgetown, SG100012202

Morgan County

Largent Bridge, WV Route 9 over the Cacapon River, Largent, SG100012204

Great Cacapon Bridge, WV Route 9 over the Cacapon River, Village of Great Cacapon, SG100012205

Roane County

Spencer Commercial Historic District, Main Street, Market Street, Court Street, Church Street, Beauty Street, Heritage Avenue, Spencer, SG100012206

Nomination(s) submitted by Federal Preservation Officers:

The State Historic Preservation Officer reviewed the following nomination(s) and responded to the Federal Preservation Officer within 45 days of receipt of the nomination(s) and supports listing the properties in the National Register of Historic Places.

VIRGINIA

Charlottesville INDEPENDENT CITY

Thomas Jefferson Inn, 1301 Emmet Street North, Charlottesville, SG100012195

(Authority: Section 60.13 of 36 CFR part 60.)

Sherry A. Frear,
Chief, National Register of Historic Places/National Historic Landmarks Program.

[FR Doc. 2025-17101 Filed 9-5-25; 8:45 am]

BILLING CODE 4312-52-P